DEPARTMENT OF ENERGY

Federal Energy Regulatory Commission

[Project No. 516-476]

South Carolina Electric and Gas Company; Notice Denying Motion to Intervene and Rejecting Request for Rehearing

On April 22, 2013, Commission staff issued an order approving South Carolina Electric and Gas Company's request to convey approximately 0.172 acres of land of the Saluda Hydroelectric Project No. 516, located on the Saluda and Congaree Rivers in Lexington, Newberry, Richland, and Saluda Counties, South Carolina.¹ On May 7, 2013, Pat Kelleher filed a motion to intervene and a request for rehearing of Commission staff's order.

¹ South Carolina Elec. and Gas Co., 143 FERC ¶ 62,041 (2013).

Rule 214(b)(2) of the Commission's Rules of Practice and Procedures states in relevant part that a motion to intervene must show in sufficient detail that the movant's participation is in the public interest.² In his request for rehearing, Mr. Kelleher states that his intervention “is in the public interest because it improves public access to public recreation at the . . . .” ³ Mr. Kelleher, a resident of Washington State, failed to identify any interest whatsoever in this specific proceeding.⁴ Accordingly, his motion to intervene is denied.⁵

² 18 CFR 385.214(b)(2)(iii) (2012).

³ Request for Rehearing at 1.

⁴ He does not claim to own or recreate at property on or near the project site, to have ever visited the project, or have any future plans to do so.

⁵ See Alabama Power Co., 141 FERC ¶ 61,039 (2012); Union Electric Co., 140 FERC ¶ 61,210 (2012); Alabama Power Co., 140 FERC ¶ 61,037 (2012); PPL Holtwood, LLC, 140 FERC ¶ 61,038 (2012).

Under section 313(a) of the Federal Power Act, 16 U.S.C. 825l (2006), a request for rehearing may be filed only by a party to the proceeding. Pat Kelleher is not a party to this proceeding. Therefore, his request for rehearing is rejected.

This notice constitutes final agency action. Requests for rehearing by the Commission of this notice must be filed within 30 days of the date of issuance of this notice pursuant to section 313(a) of the FPA, 16 U.S.C. 825l (2006), and section 385.713 of the Commission's regulations, 18 CFR 385.713 (2012).

Dated: May 21, 2013.
Kimberly D. Bose,
Secretary.

[FR Doc. 2013-12785 Filed 5-29-13; 8:45 am]

BILLING CODE 6717-01-P